DEPARTMENT OF THE TREASURY

Office of Thrift Supervision

12 CFR Part 567

Regulatory Capital Requirements

CFR Correction

In Title 12 of the Code of Federal Regulations, Parts 500 to 599, revised as of January 1, 2009, on page 330, in § 567.3, remove the second paragraph (d)(1).

[FR Doc. E9-30377 Filed 12-18-09; 8:45 am]

BILLING CODE 1505-01-D